DEPARTMENT OF LABOR

Employment and Training Administration

[NAFTA-04433]

VF Imagewear (West), Inc., Formerly Known as VF Workwear, Inc., Clarksville, TX; Amended Certification Regarding Eligibility To Apply for NAFTA-Transitional Adjustment Assistance

In accordance with section 250(A), Subchapter D, Chapter 2, Title II, of the Trade Act of 1974 (19 U.S.C. 2273), the Department of Labor issued a Certification of NAFTA Transitional Adjustment Assistance on February 2, 2001, applicable to workers of VF Imagewear (West), Inc., Clarksville, Texas. The notice was published in the Federal Register on March 2, 2001 (66 FR 13087).

At the request of the State agency, the Department reviewed the certification for workers of the subject firm. New findings show that the Department incorrectly identify the subject firm title name in its entirety. The Department is amending the certification determination to correctly identify the subject firm title name to read VF Imagewear (West), Inc. formerly known as VF Workwear, Inc.

The amended notice applicable to NAFTA-04433 is hereby issued as follows:

All workers of VF Imagewear (West), Inc., formerly known as VF Workwear, Inc., Clarksville, Texas who became totally or partially separated from employment on of after December 19, 1999 through February 2, 2003 are eligible to apply for NAFTA-TAA under Section 250 of the Trade Act of 1974.

Signed at Washington, DC this 17th day of May, 2001.
Linda G. Poole,
Certifying Officer, Division of Trade Adjustment Assistance.

[FR Doc. 01-13226 Filed 5-24-01; 8:45 am]

BILLING CODE 4510-30-M